DEPARTMENT OF COMMERCE

National Institute of Standards and Technology

[Docket Number 0909291327-91328-01]

Draft NIST Framework and Roadmap for Smart Grid Interoperability Standards, Release 1.0; Request for Comments

AGENCY: National Institute of Standards and Technology (NIST), Department of Commerce.

ACTION: Notice; request for comments.

SUMMARY: The National Institute of Standards and Technology (NIST) seeks two categories of comments on the draft NIST Framework and Roadmap for Smart Grid Interoperability Standards, Release 1.0:

(1) Comments on the overall document and the contents of all chapters, except Chapter 4, Standards Identified for Implementation; and

(2) Comments on the 15 additional “Standards Identified for Implementation” (Chapter 4); the NIST-proposed “Guidance for Identifying Standards for Implementation”; and recommendations for adding or removing standards and specifications on the list of standards identified for implementation (Table 2), referencing relevant guidance criteria. In addition, NIST requests comments on the standards in Table 3—additional standards NIST has identified for further review.

DATES: Comments must be received on or before November 9, 2009.

ADDRESSES: Written comments may be sent to: George Arnold, 100 Bureau Drive, Stop 8100, National Institute of Standards and Technology, Gaithersburg, MD 20899-8100.

Electronic comments on the overall draft and the contents of chapters 1-3 and 5-7 may be sent to: nistsgframeworkcomments@nist.gov.

Comments on the 15 additional “Standards Identified for Implementation” (Chapter 4); the NIST-proposed “Guidance for Identifying Standards for Implementation;” recommendations for adding or removing standards and specifications on the list of standards identified for implementation (Table 2), referencing relevant guidance criteria; and comments on the standards in Table 3—additional standards NIST has identified for further review—may be sent to: nistsgstandardscomments@nist.gov. Comments on the standards in Table 3 should reference relevant guidance criteria.

The entire draft version of the NIST Framework and Roadmap for Smart Grid Interoperability Standards, Release 1.0 (Draft), is available at: http://www.nist.gov/public_affairs/releases/smartgrid_interoperability.pdf.

FOR FURTHER INFORMATION CONTACT: George Arnold, 100 Bureau Drive, Stop 8100, National Institute of Standards and Technology, Gaithersburg, MD 20899-8100, telephone (301) 975-5627.

SUPPLEMENTARY INFORMATION: Section 1305 of the Energy Independence and Security Act (EISA) of 2007 (Pub. L. 110-140, 121 Stat. 1492) requires the Director of NIST “to coordinate the development of a framework that includes protocols and model standards for information management to achieve interoperability of smart grid devices and systems.”

NIST recently issued the NIST Framework and Roadmap for Smart Grid Interoperability Standards, Release 1.0 (draft for public review and comment). The report is a result of NIST's approach to expediting development of key standards and requirements necessary for Smart Grid interoperability.

It proposes:

• A conceptual reference model to facilitate design of an architecture for the Smart Grid overall and for each of its networked domains;

• An initial set of standards for the Smart Grid;

• Priorities for additional standards necessary to resolve important gaps and to assure the interoperability, reliability, and security of Smart Grid components;

• Initial steps toward a Smart Grid cyber security and requirements document; and

• Action plans and timetables for designated standards development organizations (SDOs) tasked to fill identified gaps.

The document is a draft release, and is an initial step in a standards development and harmonization process that ultimately will deliver the hundreds of communication protocols, standard interfaces, and other widely accepted and adopted technical specifications necessary to build an advanced, secure, and interoperable electric power grid. The final version of Release 1.0, which will be issued later in 2009, also will serve to guide the work of a Smart Grid Interoperability Panel that is being established as part of the NIST framework for achieving end-to-end interoperability.

Results of NIST's ongoing work on interoperability and cyber security standards for the Smart Grid provide input to the Federal Energy Regulatory Commission (FERC). Under EISA, FERC is charged with instituting, once sufficient consensus is achieved, rulemaking proceedings to adopt the standards and protocols necessary to ensure Smart Grid functionality and interoperability in interstate transmission of electric power, and in regional and wholesale electricity markets.

On June 9, 2009, NIST issued a Federal Register notice (74 FR 27288), requesting comments on a preliminary set of 16 smart grid interoperability standards and specifications identified as applicable to Smart Grid interoperability and cyber security needs. After reviewing and evaluating the input it received, NIST increased this initial list to 31 standards and other specifications. The additional 15 standards and specifications are shaded in Table 2, Chapter 4, beginning with item 17 on page 34 of the report. In addition, Table 3 lists additional standards NIST has identified for further review.

On May 19-20, 2009, NIST and its contractor, the Electric Power Research Institute (EPRI), convened a workshop, where more than 600 people engaged in sessions focused on developing and analyzing use cases, determining Smart Grid interoperability requirements, locating key interfaces, and identifying additional standards for consideration. The sessions yielded more than 70 candidate standards and emerging specifications, which were compiled in EPRI's Report to NIST on the Smart Grid Interoperability Standards Roadmap (EPRI Report) ((Contract No. SB1341-09-CN-0031—Deliverable 7) Prepared by EPRI, June 17, 2009). The EPRI Report also was submitted for public review and comment. However, the additional standards constituted a small part of the lengthy report.

Excluding those already listed in Table 2, the standards compiled in the EPRI Report are listed in Table 3, Chapter 4 of the draft NIST Framework and Roadmap for Smart Grid Interoperability Standards, Release 1.0.

NIST solicits public comments on the 15 standards and other specifications added to the list of NIST-identified standards for implementation, as presented in Table 2, Chapter 4. Comments may include recommendations for removing specific items, or for adding new specifications, which may or may not be among those listed in Table 3, Chapter 4 of the NIST Framework and Roadmap for Smart Grid Interoperability Standards, Release 1.0 (Draft). All recommendations should reference specific criteria in the supporting explanation, as described below.

NIST has developed a core set of criteria to provide initial guidance when evaluating prospective Smart Grid standards. This guidance also is presented in Chapter 4 of NIST Framework and Roadmap for Smart Grid Interoperability Standards, Release 1.0 (Draft). NIST seeks public comments on the usefulness of the criteria as well as suggestions for improving the guidance for future evaluations of standards. Additionally, NIST asks that recommendations for adding or removing specifications from the list of standards identified for Smart Grid implementation cite guidance criteria relevant to specific recommendations.

Request for Comments: NIST seeks two sets of comments on the draft framework and roadmap report. The agency requests:

1. Comments on the overall draft and the contents of chapters 1-3 (“Purpose and Scope,” “Smart Grid Vision,” and “Conceptual Reference Model”) and chapters 5-7 (“Priority Action Plans,” “Cyber Security Risk Management Framework and Strategy,” and “Next Steps”) of the draft NIST Framework and Roadmap for Smart Grid Interoperability Standards, Release 1.0.

2. Comments on the 15 additional “Standards Identified for Implementation” (Chapter 4); comments on the NIST-proposed “Guidance for Identifying Standards for Implementation;” and recommendations for adding or removing specifications on the list of standards identified for implementation (Table 2), which should reference relevant guidance criteria. In addition, comments on the standards in Table 3—additional standards NIST has identified for further review—are requested, and comments should reference relevant guidance criteria.

Comments should be submitted in accordance with instructions in the ADDRESSES section of this notice.

NIST advises that it also is seeking public review and comment on a companion draft document, NIST Interagency Report (NISTIR) 7628 Smart Grid Cyber Security Strategy and Requirements. (More than 200 pages long, this document is summarized in Chapter 6 of draft NIST Framework and Roadmap for Smart Grid Interoperability Standards, Release 1.0.) The request for comments on draft NISTIR 7628 will be published separately in the Federal Register.

Dated: October 5, 2009.
Patrick Gallagher,
Deputy Director.

[FR Doc. E9-24429 Filed 10-8-09; 8:45 am]

BILLING CODE 3510-13-P